DEPARTMENT OF HOUSING AND URBAN DEVELOPMENT

24 CFR Parts 50, 55, and 58

[Docket No. FR-5423-C-03]

RIN 2501-AD51

Floodplain Management and Protection of Wetlands; Correction

AGENCY: Office of the General Counsel, HUD.

ACTION: Final rule; correction.

SUMMARY: HUD is correcting a final rule published in the Federal Register on November 15, 2013. The November 15, 2013, final rule revised HUD's regulations governing the protection of wetlands and floodplains. Upon publication, HUD discovered that it inadvertently duplicated an activity that the final rule exempts from the 8 Step Process for floodplains and wetlands management compliance. As a result, this document corrects this duplication by removing the duplication.

DATES: Effective Date: December 16, 2013.

FOR FURTHER INFORMATION CONTACT: Aaron Santa Anna, Assistant General Counsel for Regulations, Office of General Counsel, Department of Housing and Urban Development, 451 7th Street SW., Room 10276, Washington, DC 20410-0500; telephone number 202-708-3055 (this is not a toll-free number). Persons with hearing or speech impairments may access this number through TTY by calling the Federal Relay Service at 800-877-8339 (this is a toll-free number).

SUPPLEMENTARY INFORMATION: On November 15, 2013 (78 FR 68719), HUD published a final rule that revised its regulations governing the protection of wetlands and floodplains codified at 24 CFR part 55. Section 55.12(c) of the rule lists activities exempt from the applicability of 24 CFR part 55. Among other things, the final rule added to the list of exempted activities the approval of financial assistance for restoring and preserving the functions and values of floodplains and wetlands. Upon review of the published final rule, HUD discovered that this exemption was added at §§ 55.12(c)(3) and (c)(12). These duplicated paragraphs are identical. As a result, HUD is correcting this final rule by deleting § 55.12(c)(12).

In FR Doc. 2013-27427 appearing on page 68719 in the Federal Register of Friday, November 15, 2013, the following correction is made:

§ 55.12 [Corrected]

1. On page 68732, in the second column, remove § 55.12(c)(12).

Dated: December 3, 2013.
Aaron Santa Anna,
Assistant General Counsel for Regulations.

[FR Doc. 2013-29338 Filed 12-9-13; 8:45 am]

BILLING CODE 4210-67-P